DEPARTMENT OF ENERGY

Federal Energy Regulatory Commission

[Docket Nos. RP02-378-000 and RP02-378-001]

Texas Gas Transmission, LLC; Notice of Proposed Changes in FERC Gas Tariff

July 10, 2003.

Take notice that on July 2, 2003, Texas Gas Transmission, LLC, formerly Texas Gas Transmission Corporation (Texas Gas), requested that it be allowed to withdraw its web-based capacity auction proposal, as it has decided not to pursue that process at this time.

Texas Gas states that the tariff sheets listed below, which are currently pending Commission action, will not be moved into effect, but are instead withdrawn.

Docket No. RP02-378-000

Sixth Revised Sheet No. 146

Sheet No. 237

Original Sheet No. 239

Original Sheet No. 240

Original Sheet No. 241

Sheet No. 242

Docket No. RP02-378-001

First Revised Sheet No. 239

First Revised Sheet No. 240

First Revised Sheet No. 241

Sheet No. 395

Original Sheet No. 400

Original Sheet No. 401

Original Sheet No. 402

Original Sheet No. 403

Sheet No. 404

Texas Gas states that copies of this request are being mailed to all parties in this docket, to all parties on Texas Gas's official service list, to Texas Gas's jurisdictional customers, and to interested State Commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: July 14, 2003.

Magalie R. Salas,
Secretary.

[FR Doc. 03-18023 Filed 7-16-03; 8:45 am]

BILLING CODE 6717-01-P